DEPARTMENT OF TRANSPORTATION

Federal Aviation Administration

[Summary Notice No. PE-2001-93]

Petitions for Exemption; Summary of Dispositions of Petitions Issued

AGENCY: Federal Aviation Administration (FAA), DOT.

ACTION: Notice of Dispositions of prior petitions.

SUMMARY: Pursuant to FAA's rulemaking provisions governing the application, processing, and disposition of petitions for exemption part 11 of Title 14, Code of Federal Regulations (14 CFR), this notice contains a summary of dispositions of certain petitions previously received. The purpose of this notice is to improve the public's awareness of, and participation in, this aspect of FAA's regulatory activities. Neither publication of this notice nor the inclusion or omission of information in the summary is intended to affect the legal status of any petition or its final disposition.

FOR FURTHER INFORMATION CONTACT: Forest Rawls (202) 267-8033, Sandy Buchanan-Sumter (202) 267-7271, or Vanessa Wilkins (202) 267-8029, Office of Rulemaking (ARM-1), Federal Aviation Administration, 800 Independence Avenue, SW., Washington, DC 20591.

This notice is published pursuant to 14 CFR 11.85 and 11.91.

Issued in Washington, DC., on November 29, 2001.
Donald P. Byrne,
Assistant Chief Counsel for Regulations.

Dispositions of Petitions

Docket No.: FAA-2001-10384 (previously Docket No. 29137).

Petitioner: Weary Warriors Squadron.

Section of 14 CFR Affected: 14 CFR 91.315, 119.21(g), and 119.21(a).

Description of Relief Sought/Disposition: To permit WWS to operate its North American B-25 aircraft, which is certificated in the limited category, for the purpose of carrying passengers for compensation or hire.

Grant, 11/01/2001, Exemption No. 6786B.

Docket No.: FAA-2001-10452 (previously Docket No. 29599).

Petitioner: Air Logistics, L.L.C.

Section of 14 CFR Affected: 14 CFR 145.45(f).

Description of Relief Sought/Disposition: To permit Air Logistics to place and maintain its Inspection Procedures Manual (IPM) in a number of fixed locations within its facility in lieu of giving a copy of the IPM to each of its supervisory and inspection personnel.

Grant, 10/24/2001, Exemption No. 7097A.

Docket No.: FAA-2001-10876.

Petitioner: EAA Aviation Foundation, Inc., and Experimental Aircraft Association, Inc.

Section of 14 CFR Affected: 14 CFR 91.315, 119.5(g), and 119.21(a).

Description of Relief Sought/Disposition: To permit EAA to operate its Boeing B-17 airplane, which is certificated in the limited category, for the purpose of carrying its members for compensation or hire in its former military vintage airplane on local flights for educational and historical purposes.

Grant, 10/30/2001, Exemption No. 6541C.

Docket No.: FAA-2001-9780.

Petitioner: Schwartz Engineering Company.

Section of 14 CFR Affected: 14 CFR 25.813(e).

Description of Relief Sought/Disposition: To permit SEC to install interior “hinged/slab” doors between passenger compartments on one private-use Boeing Model 737-700 IGW airplane.

Denial, 11/02/2001, Exemption No. 7656.

[FR Doc. 01-30132 Filed 12-4-01; 8:45 am]

BILLING CODE 4910-13-M